DEPARTMENT OF ENERGY

Federal Energy Regulatory Commission

[Docket No. IC21-11-000]

Commission Information Collection Activities (FERC-516G); Comment Request; Revision and Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection FERC-516G.

DATES: Comments on the collection of information are due April 26, 2021.

ADDRESSES: You may submit comments (identified by Docket No. IC21-11-000) by any of the following methods:

• eFiling at Commission's Website: http://www.ferc.gov/docs-filing/efiling.asp.

• U.S. Postal Service Mail: Persons unable to file electronically may mail similar pleadings to the Federal Energy Regulatory Commission, 888 First Street NE, Washington, DC 20426.

• Effective July 1, 2020, delivery of filings other than by eFiling or the U.S. Postal Service should be delivered to Federal Energy Regulatory Commission, 12225 Wilkins Avenue, Rockville, Maryland 20852.

Instructions: All submissions must be formatted and filed in accordance with submission guidelines at: http://www.ferc.gov. For user assistance, contact FERC Online Support by email at: ferconlinesupport@ferc.gov, or by phone at: (866) 208-3676 (toll-free).

Docket: Users interested in receiving automatic notification of activity in this docket or in viewing/downloading comments and issuances in this docket may do so at: http://www.ferc.gov/docs-filing/docs-filing.asp.

FOR FURTHER INFORMATION CONTACT: Ellen Brown may be reached by email at DataClearance@FERC.govO, telephone at (202) 502-8663.

SUPPLEMENTARY INFORMATION:

Title: FERC-516G, Electric Rate Schedules and Tariff Filings.

OMB Control No.: 1902-0295.

Type of Request: Three-year renewal of FERC-516G.

Type of Respondents: Regional Transmission Organizations (RTOs) and Independent System Operators (ISOs).

Abstract: In this information collection (IC) request, the Commission seeks renewal of FERC-516G, which pertains to the operation of organized wholesale electric power markets operated by RTOs/ISOs. This IC includes a one-time requirement that RTOs and ISOs establish a website and modify their respective tariffs to include the transmission constraint penalty factors used in its market software, as well as the circumstances under which those factors can set locational marginal prices, and any process by which they can be changed. All current RTOs and ISOs have complied with the one-time requirement, but the Commission seeks to renew this requirement in case a new RTO or ISO is established.

In addition, this IC requires that each RTO/ISO: (1) Report, on a monthly basis, uplift payments ¹ for each transmission zone, broken out by day and uplift category; (2) report, on a monthly basis, total uplift payments for each resource; and (3) report, on a monthly basis, for each operator-initiated commitment, the size of the commitment, transmission zone, commitment reason, and commitment start time.

¹ RTOs and ISOs may make such payments to resources that experience a shortfall between what the resources offer and the revenue they realize through market-clearing prices.

Necessity of Information: The Commission implements this collection of information to improve competitive wholesale electric markets in the RTO/ISO regions.

Estimate of Annual Burden: ² The Commission believes that the burden estimates below are representative of the average burden on respondents, including necessary communications with stakeholders. The estimated burden and cost ³ follow:

² Burden is defined as the total time, effort, or financial resources expended by persons to generate, maintain, retain, or disclose or provide information to or for a Federal agency. For further explanation of what is included in the information collection burden, refer to 5 CFR 1320.3.

³ The hourly cost (for salary plus benefits) was calculated by using data from the Bureau of Labor Statistics for three positions involved in the reporting and recordkeeping requirements. These figures include salary (https://www.bls.gov/oes/current/oes_nat.htm) and benefits (http://www.bls.gov/news.release/ecec.nr0.htm) and are:

• Manager (Occupation Code 11-0000): $94.84/hour.

• Engineer (Occupation Code 17-2071): $85.71/hour.

• File Clerk (Occupation Code 43-4071): $52.60/hour.

The hourly cost for the reporting requirements ($77.72) is an average of the cost of a manager, an engineer, and a file clerk.

FERC-516G Estimated Annual Burdens
Type of response | Number of respondents | Annual number of responses per respondent | Total number of responses | Average burden hours & cost per response | Total annual burden hours & total annual cost | Cost per respondent ($)
| (1) | (2) | (1) × (2) = (3) | (4) | (3) × (4) = (5) | (5) ÷ (1)
One-Time Establishment of Website and Tariff Filing | 1 | 1 | 1 | 500 hrs.; $38,860 | 500 hrs.; $38,860 | $38,860
Posting of Monthly Reports on Website | 6 | 12 | 72 | 3 hrs.; $233.16 | 216 hrs.; $16,787.52 | $233.16
Totals | 7 | 13 | 73 |  | 716 hrs.; $55,647.52 | NA

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 18, 2021.
Kimberly D. Bose,
Secretary.

[FR Doc. 2021-03804 Filed 2-23-21; 8:45 am]

BILLING CODE 6717-01-P